DEPARTMENT OF COMMERCE

International Trade Administration

[A-570-018]

Boltless Steel Shelving Units Prepackaged for Sale From the People's Republic of China: Initiation of Antidumping Duty Investigation

AGENCY: Enforcement and Compliance, International Trade Administration, Department of Commerce.

DATES: Effective Date: September 22, 2014.

FOR FURTHER INFORMATION CONTACT: Kabir Archuletta, Office V, AD/CVD Operations, Enforcement and Compliance, International Trade Administration, U.S. Department of Commerce, 14th Street and Constitution Avenue NW., Washington, DC 20230; telephone: (202) 482-2593.

SUPPLEMENTARY INFORMATION:

The Petition

On August 26, 2014, the Department of Commerce (“Department”) received an antidumping duty (“AD”) petition concerning imports of boltless steel shelving units prepackaged for sale (“boltless steel shelving”) from the People's Republic of China (“PRC”), officially filed in proper form on behalf of the Edsal Manufacturing Company, Inc. (“Petitioner”).¹ The AD Petition was accompanied by a countervailing duty (“CVD”) petition concerning imports of boltless steel shelving from the PRC. On August 27, August 28, and September 9, 2014, the Department requested additional information and clarification of certain areas of the Petition.² On September 4 and 11, 2014, Petitioner filed responses to these requests.³

¹ See Letter to the Secretary of Commerce from Petitioner “Antidumping and Countervailing Duty Petition” (August 26, 2014) (“Petition”).

² See Letter to Petitioner from Catherine Bertrand, Program Manager, Office V “Petition for the Imposition of Antidumping Duties on Imports of Boltless Steel Shelving Units Prepackaged for Sale from the People's Republic of China: Supplemental Questions” (August 27, 2014); Letter to Petitioner from Catherine Bertrand, Program Manager, Office V “Petition for the Imposition of Antidumping and Countervailing Duties on Imports of Boltless Steel Shelving Units Prepackaged for Sale from the People's Republic of China: Supplemental Questions” (August 28, 2014); Memo to the File from Vicki Flynn, Senior Import Policy Analyst “Phone Call with Counsel to Petitioner” (September 9, 2014).

³ See Letter to the Secretary of Commerce from Petitioner “Response to Supplemental Questions Concerning General and Injury Section of the Petition” (September 4, 2014) (“General Issues Supplement”); Letter to the Secretary of Commerce from Petitioner “Response to Supplemental Questions Concerning Volume II of the Petition” (September 4, 2014) (“AD Supplement”); Letter to the Secretary of Commerce from Petitioner “Response to Second Supplemental Questionnaire Concerning Volume II of the Petition” (September 11, 2014) (“Second AD Supplement”).

In accordance with section 732(b) of the Tariff Act of 1930, as amended (“the Act”), Petitioner alleges that imports of boltless steel shelving from the PRC are being, or are likely to be, sold in the United States at less than fair value within the meaning of section 731 of the Act, and that such imports are a cause of material injury to the U.S. domestic industry producing boltless steel shelving or threaten to cause further material injury. Also, consistent with section 732(b)(1) of the Act, the Petition is accompanied by information reasonably available to Petitioner in support of its allegations.

The Department finds that Petitioner filed the Petition on behalf of the domestic industry because Petitioner is an interested party as defined in section 771(9)(C) of the Act. The Department also finds that Petitioner demonstrated sufficient industry support with respect to the initiation of the AD investigation that Petitioner is requesting.⁴

⁴ See “Determination of Industry Support for the Petition” section, below.

Period of Investigation

Because the Petition was filed on August 26, 2014, the period of investigation (“POI”) is January 1, 2014, through June 30, 2014.⁵

⁵ See 19 CFR 351.204(b)(1).

Scope of the Investigation

The product covered by this investigation is boltless steel shelving from the PRC. For a full description of the scope of the investigation, see the “Scope of the Investigation” at the Appendix of this notice.

Comments on the Scope of the Investigation

During our review of the Petition, the Department issued questions to, and received responses from, Petitioner pertaining to the proposed scope in order to ensure that the language of the scope is an accurate reflection of the products for which the domestic industry is seeking relief.⁶ As discussed in the preamble to the Department's regulations, we are setting aside a period for interested parties to raise issues regarding product coverage (scope).⁷ The period for scope comments is intended to provide the Department with ample opportunity to consider all comments and to consult with parties prior to the issuance of the preliminary determination. If scope comments include factual information,⁸ all such factual information should be limited to public information. All such comments must be filed by 5:00 p.m. Eastern Time (“ET”) on October 6, 2014, which is 20 calendar days from the signature date of this notice.⁹ Any rebuttal comments, which may include factual information, must be filed by 5:00 p.m. ET on October 16, 2014, which is 10 calendar days after the initial comments. The Department requests that any factual information the parties consider relevant to the scope of the investigation be submitted during this time period. However, if a party subsequently finds that additional factual information pertaining to the scope of the investigation may be relevant, the party may contact the Department and request permission to submit the additional information. All such comments must be filed on the records of the AD investigation, as well as the concurrent CVD investigation.

⁶ See General Issues Supplement, at 2-13; Letter to the Secretary of Commerce from Petitioner “Scope Clarification” (September 11, 2104), at 3-4.

⁷ See Antidumping Duties; Countervailing Duties (Final Rule); 62 FR 27296, 27323 (May 19, 1997).

⁸ See 19 CFR 351.102(b)(21).

⁹ As 20 days from the signature date will be Sunday, October 5, 2014, the next business day for filing comments will be Monday, October 6, 2014. See Notice of Clarification: Application of “Next Business Day” Rule for Administrative Determination Deadlines Pursuant to the Tariff Act of 1930, As Amended, 70 FR 24533 (May 10, 2005).

Filing Requirements

All submissions to the Department must be filed electronically using Enforcement and Compliance's Antidumping and Countervailing Duty Centralized Electronic Service System (“IA ACCESS”). An electronically filed document must be received successfully in its entirety by 5:00 p.m. ET on the date specified by the Department. Documents excepted from the electronic submission requirements must be filed manually (i.e., in paper form) with Enforcement and Compliance's APO/Dockets Unit, Room 1870, U.S. Department of Commerce, 14th Street and Constitution Avenue NW., Washington, DC 20230, and stamped with the date and time of receipt by the applicable deadline.¹⁰

¹⁰ See 19 CFR 351.303(b)(1); see also Antidumping and Countervailing Duty Proceedings: Electronic Filing Procedures; Administrative Protective Order Procedures, 76 FR 39263 (July 6, 2011) for details of the Department's electronic filing requirements. Information on help using IA ACCESS can be found at https://iaaccess.trade.gov/help.aspx and a handbook can be found at https://iaaccess.trade.gov/help/Handbook%20on%20Electronic%20Filling%20Procedures.pdf.

Comments on the Product Characteristics for the AD Questionnaire

The Department requests comments from interested parties regarding the appropriate physical characteristics of boltless steel shelving to be reported in response to the Department's AD questionnaire. The Department will use this information to identify the key physical characteristics of the merchandise under consideration in order to report the relevant factors of production (“FOPs”) accurately, as well as to develop appropriate product-comparison criteria.

Interested parties may provide any information or comments that they believe are relevant to the development of an accurate list of physical characteristics. Specifically, interested parties may provide comments as to which characteristics are appropriate to use as: (1) General product characteristics and (2) product-comparison criteria. We note that it is not always appropriate to use all product characteristics as product-comparison criteria. We base product-comparison criteria on meaningful commercial differences among products. In other words, while there may be some physical product characteristics utilized by manufacturers to describe boltless steel shelving, it may be that only a select few product characteristics take into account commercially meaningful physical characteristics. Generally, the Department attempts to list the most important physical characteristics first and the least important characteristics last.

In order to consider the suggestions of interested parties in developing and issuing the AD questionnaire, we must receive comments on product characteristics no later than October 6, 2014. Rebuttal comments must be received no later than October 16, 2014. All comments and submissions to the Department must be filed electronically using IA ACCESS, as referenced above.

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) if there is a large number of producers in the industry, the Department may determine industry support using a statistically valid sampling method to poll the industry.

Section 771(4)(A) of the Act defines the “industry” as the producers as a whole of a domestic like product. Thus, to determine whether a petition has the requisite industry support, the statute directs the Department to look to producers and workers who produce the domestic like product. The U.S. International Trade Commission (“ITC”), which is responsible for determining whether “the domestic industry” has been injured, must also determine what constitutes a domestic like product in order to define the industry. While both the Department and the ITC must apply the same statutory definition regarding the domestic like product,¹¹ they do so for different purposes and pursuant to a separate and distinct authority. In addition, the Department's determination is subject to limitations of time and information. Although this may result in different definitions of the like product, such differences do not render the decision of either agency contrary to law.¹²

¹¹ See section 771(10) of the Act.

¹² See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, Petitioner does not offer a definition of domestic like product distinct from the scope of the investigation. Based on our analysis of the information submitted on the record, we have determined that boltless steel shelving, as defined in the scope of the investigation, constitutes a single domestic like product and we have analyzed industry support in terms of that domestic like product.¹³

¹³ See Antidumping Duty Investigation Initiation Checklist: Boltless Steel Shelving Prepackaged for Sale from the People's Republic of China (“AD Initiation Checklist”), at Attachment II, Analysis of Industry Support for the Antidumping and Countervailing Duty Petitions Covering Boltless Steel Shelving Prepackaged for Sale from the People's Republic of China (“Attachment II”). This checklist is dated concurrently with this notice and on file electronically via IA ACCESS. Access to documents filed via IA ACCESS is also available in the Central Records Unit, Room 7046 of the main Department of Commerce building.

In determining whether Petitioner has standing under section 732(c)(4)(A) of the Act, we considered the industry support data contained in the Petition with reference to the domestic like product as defined in the “Scope of the Investigation” section above. To establish industry support, Petitioner provided its production of the domestic like product in 2013, and compared this to the total production of the domestic like product for the entire domestic industry.¹⁴ We relied upon data Petitioner provided for purposes of measuring industry support.¹⁵

¹⁴ See Volume I of the Petition, at 3-4 and Exhibit GEN-1; see also General Issues Supplement, at 15-16 and Exhibit 1.

¹⁵ See AD Initiation Checklist, at Attachment II.

Based on information provided in the Petition and supplemental submission, we determine that Petitioner has met the statutory criteria for industry support under section 732(c)(4)(A)(i) of the Act because the domestic producers (or workers) who support the Petition account for at least 25 percent of the total production of the domestic like product.¹⁶ Based on information provided in the Petition and supplemental submission, the domestic producers (or workers) have met the statutory criteria for industry support under section 732(c)(4)(A)(ii) of the Act because the domestic producers (or workers) who support the Petition account for more than 50 percent of the production of the domestic like product produced by that portion of the industry expressing support for, or opposition to, the Petition. Accordingly, the Department determines that the Petition was filed on behalf of the domestic industry within the meaning of section 732(b)(1) of the Act.¹⁷

¹⁶ Id.

¹⁷ Id.

The Department finds that Petitioner filed the Petition on behalf of the domestic industry because it is an interested party as defined in section 771(9)(C) of the Act and it demonstrated sufficient industry support with respect to the AD investigation that it is requesting the Department initiate.¹⁸

¹⁸ Id.

Allegations and Evidence of Material Injury and Causation

Petitioner alleges that the U.S. industry producing the domestic like product is being materially injured, or is threatened with material injury, by reason of the imports of the subject merchandise sold at less than normal value (“NV”). In addition, Petitioner alleges that subject imports exceed the negligibility threshold provided for under section 771(24)(A) of the Act.¹⁹

¹⁹ See Volume I of the Petition, at 16 and Exhibit GEN-2.

Petitioner contends that the industry's injured condition is illustrated by reduced market share; underselling and price depression or suppression; lost sales and revenues; reduced capacity utilization; and substantial financial harm.²⁰ We assessed the allegations and supporting evidence regarding material injury, threat of material injury, and causation, and we determined that these allegations are properly supported by adequate evidence and meet the statutory requirements for initiation.²¹

²⁰ Id., at 16-20 and Exhibits GEN-2, GEN-5, GEN-6, and GEN-9 through GEN-11; see also General Issues Supplement, at 16 and Exhibit 2.

²¹ See AD Initiation Checklist, at Attachment III, Analysis of Allegations and Evidence of Material Injury and Causation for the Antidumping and Countervailing Duty Petitions Covering Boltless Steel Shelving Units Prepackaged for Sale from the People's Republic of China.

Allegation of Sales at Less Than Fair Value

The following is a description of the allegation of sales at less than fair value upon which the Department based its decision to initiate an investigation of imports of boltless steel shelving from the PRC. The sources of data for the deductions and adjustments relating to U.S. price and NV are discussed in greater detail in the AD Initiation Checklist.

Export Price

Petitioner based export price (“EP”) for boltless steel shelving on offers for sale during the POI obtained during the ordinary course of business. Petitioner made adjustments to those prices for foreign inland freight, brokerage and handling at port of exportation, and unrebated value added tax to derive a U.S. net price.²²

²² See Volume II of the Petition, at 2 and Exhibit AD-5; AD Supplement, at 2-3, Exhibit AD-Supp-1, AD-Supp-3, and AD-Supp-5; Second AD Supplement, at 2 and Exhibits AD-2nd-Supp-1 and AD-2nd-Supp-5; AD Initiation Checklist, at 6-9.

Normal Value

Petitioner states that the Department has treated the PRC as a non-market economy (“NME”) country for purposes of all antidumping proceedings in which it has been involved.²³ The Department has not revoked the presumption of NME status for the and, therefore, in accordance with section 771(18)(C)(i) of the Act, remains in effect for purposes of the initiation of this investigation. Accordingly, the NV of the product for this investigation is appropriately based on FOPs valued in a surrogate market-economy country in accordance with section 773(c) of the Act. In the course of this investigation, all parties will have the opportunity to provide relevant information related to the issues of the PRC's NME status and granting of separate rates to individual exporters.

²³ See Volume II of the Petition, at 2-3.

Petitioner contends that Indonesia is the appropriate surrogate country for the PRC because: (1) It has consistently been identified by the Department as a country that is at a level of economic development comparable to that of the PRC; (2) the availability of surrogate financial statement data demonstrates that there is an industry producing steel frame shelving in Indonesia, which indicates that Indonesia is a significant producer of comparable merchandise; and (3) there are reasonably available surrogate value data for Indonesia in order to conduct a factors-based analysis of NV.²⁴ Based on the information provided by Petitioner, we conclude that it is appropriate to use Indonesia as a surrogate country for initiation purposes.²⁵ After initiation of this investigation, interested parties will have the opportunity to submit comments regarding surrogate country selection and, pursuant to 19 CFR 351.301(c)(3)(i), will be provided an opportunity to submit publicly available information to value FOPs within 30 days before the scheduled date of the preliminary determination.²⁶

²⁴ Id., at 3 and Exhibit AD-3; AD Supplement, at Exhibit AD-Supp-3.

²⁵ See AD Initiation Checklist, at 8.

²⁶ See 19 CFR 351.301(c)(3)(i). Note that this is the revised regulation published on April 10, 2013. See Definition of Factual Information and Time Limits for Submission of Factual Information, 78 FR 21246 (April 10, 2013) (“Definition of Factual Information and Time Limits”).

Petitioner calculated NV using the Department's NME methodology as required by 19 CFR 351.202(b)(7)(i)(C) and 19 CFR 351.408. Petitioner based factor usage in calculating NV on its own production experience.²⁷ Petitioner asserts that, to the best of its knowledge, its consumption rates are similar or identical to the consumption of PRC producers.²⁸

²⁷ See Volume II of the Petition, at 4 and Exhibit AD-2 and Exhibit AD-4; AD Supplement, at Exhibit AD-Supp-4.

²⁸ See Volume II of the Petition, at 4 and Exhibit AD-2 and Exhibit AD-4.

Petitioner valued FOPs using reasonably available, public surrogate country data, specifically, Indonesia import data from the Global Trade Atlas (“GTA”) for the period December 2013 through May 2014, the most recently available period.²⁹ Petitioner excluded from these GTA import statistics imports from countries previously determined by the Department to be NME countries, countries previously determined by the Department to maintain broadly available, non-industry-specific export subsidies, and, in accordance with the Department's practice, any imports that were labeled as originating from an “unspecified” country.³⁰ The Department determines that the surrogate values used by Petitioner are reasonably available and, thus, are acceptable for purposes of initiation.

²⁹ See AD Supplement, at 2 and Exhibit AD-Supp-3.

³⁰ Id.

Petitioner calculated labor using 2010 data for Indonesia from the International Labor Organization under schedule 5B, section 36: Manufacture of Furniture.³¹ Petitioner adjusted this rate for inflation using the consumer price index for Indonesia published by the Organization for Economic Cooperation and Development and converted the rate to U.S. dollars using the POI average exchange rate.³²

³¹ See Volume II of the Petition, at Exhibit AD-3; AD Supplement, at AD-Supp-3.

³² Id.

Petitioner valued electricity using 2011 data published by the Indonesian Ministry of Energy and Mineral Resources in the 2012 Handbook of Energy & Economic Statistics of Indonesia.³³ Petitioner valued water using a 2006 study by the United Nations Development Program “Disconnected: Poverty Water Supply and Development in Jakarta Indonesia.” ³⁴

³³ Id.

³⁴ Id.

Petitioner calculated financial ratios (i.e., factory overhead expenses, selling, general, and administrative expenses, and profit) based on the financial statements of PT Lion Metal Works Tbk, an Indonesian manufacturer of comparable merchandise (i.e., steel office equipment and other steel products such as filing cabinets, cupboard and steel doors, and steel racks and pallets) for the year ending December 31, 2013.³⁵

³⁵ See Volume II of the Petition, at 4 and Exhibit AD-3.

Fair Value Comparisons

Based on the data provided by Petitioner, there is reason to believe that imports of boltless steel shelving from the PRC are being, or are likely to be, sold in the United States at less than fair value. Based on the comparison of net U.S. price to NV for the same or similar boltless steel shelving in accordance with section 773(c) of the Act, Petitioner's estimated margins for boltless steel shelving ranged from 40 to 211 percent.³⁶

³⁶ See Second AD Supplement, at Exhibit AD-2nd-Supp-5.

Initiation of AD Investigation

Based on our examination of the Petition on boltless steel shelving from the PRC, the Department finds that the Petition meets the requirements of section 732 of the Act. Therefore, we are initiating an AD investigation to determine whether imports of boltless steel shelving from the PRC are being, or likely to be, sold in the United States at less than fair value. In accordance with section 733(b)(1)(A) of the Act and 19 CFR 351.205(b)(1), unless postponed, we will make our preliminary determination no later than 140 days after the date of this initiation. For a discussion of evidence supporting our initiation determination, see the AD Initiation Checklist which accompanies this notice.

Respondent Selection

In accordance with our standard practice for respondent selection in AD investigations involving NME countries, we intend to issue quantity and value questionnaires to each potential respondent named in the Petition,³⁷ and will base respondent selection on the responses received. In addition, the Department will post the quantity and value questionnaire along with the filing instructions on the Enforcement and Compliance Web site (http://trade.gov/enforcement/news.asp). Exporters and producers of boltless steel shelving from the PRC that do not receive quantity and value questionnaires via mail may still submit a quantity and value response, and can obtain a copy from the Enforcement and Compliance Web site. The quantity and value questionnaire must be submitted by all PRC exporters/producers no later than September 26, 2014. All quantity and value questionnaires must be filed electronically using IA ACCESS.

³⁷ See Volume I of the Petition, at Exhibit GEN-7.

Separate Rates

In order to obtain separate rate status in an NME AD investigation, exporters and producers must submit a separate rate application.³⁸ The specific requirements for submitting the separate rate application in the PRC investigation are outlined in detail in the application itself, which will be available on the Department's Web site at http://enforcement.trade.gov/nme/nme-sep-rate.html on the date of publication of this initiation notice in the Federal Register. The separate rate application will be due 60 days after the publication of this initiation notice. For exporters and producers who submit a separate rate status application and have been selected as mandatory respondents, these exporters and producers will no longer be eligible for consideration for separate rate status unless they respond to all parts of the Department's AD questionnaire as mandatory respondents. The Department requires that the PRC respondents submit a response to the separate rate application by the deadline referenced above in order to receive consideration for separate rate status.

³⁸ See Policy Bulletin 05.1: Separate-Rates Practice and Application of Combination Rates in Antidumping Investigation involving Non-Market Economy Countries (April 5, 2005) (“Separate Rates and Combination Rates Bulletin”), available on the Department's Web site at http://enforcement.trade.gov/policy/.

Use of Combination Rates

The Department will calculate combination rates for certain respondents that are eligible for a separate rate in an NME investigation. The Separate Rates and Combination Rates Bulletin states:

{w}hile continuing the practice of assigning separate rates only to exporters, all separate rates that the Department will now assign in its NME investigations will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.³⁹

³⁹ See Separate Rates and Combination Rates Bulletin, at 6 (emphasis added).

Distribution of Copies of the Petition

In accordance with section 732(b)(3)(A) of the Act, and 19 CFR 351.202(f), copies of the public version of the Petition have been provided to the Government of the PRC. Because of the particularly large number of producers/exporters identified in the Petition, the Department considers the service of the public version of the Petition to the foreign producers/exporters to be satisfied by the provision of the public version of the Petition to the Government of the PRC, consistent with 19 CFR 351.203(c)(2).

ITC Notification

We notified the ITC of our initiation, as required by section 732(d) of the Act.

Preliminary Determination by the ITC

The ITC will preliminarily determine, within 45 days after the date on which the Petition was filed, whether there is a reasonable indication that imports of boltless steel shelving from the PRC are materially injuring, or threatening material injury to, a U.S. industry.⁴⁰ A negative ITC determination will result in the investigation being terminated.⁴¹ Otherwise, this investigation will proceed according to statutory and regulatory time limits.

⁴⁰ See section 733(a) of the Act.

⁴¹ Id.

Submission of Factual Information

On April 10, 2013, the Department published Definition of Factual Information and Time Limits, which modified two regulations related to AD and CVD proceedings: (1) The definition of factual information (19 CFR 351.102(b)(21)), and (2) the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)—(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all proceeding segments initiated on or after May 10, 2013, and thus are applicable to this investigation. Review the final rule, available at http://enforcement.trade.gov/frn/2013/1304frn/2013-08227.txt, prior to submitting factual information for this investigation.

Extension of Time Limits

On September 20, 2013, the Department published Extension of Time Limits,⁴² which modified one regulation related to AD and CVD proceedings regarding the extension of time limits for submissions in such proceedings (19 CFR 351.302(c)). These modifications are effective for all segments initiated on or after October 21, 2013, and thus are applicable to this investigation. All parties should review the final rule, available at http://www.gpo.gov/fdsys/pkg/FR-2013-09-20/html/2013-22853.htm, prior to requesting an extension.

⁴² See Extension of Time Limits, 78 FR 57790 (September 20, 2013).

Certification Requirements

Any party submitting factual information in an AD or CVD proceeding must certify to the accuracy and completeness of that information.⁴³ Parties are hereby reminded that the Department issued a final rule with respect to certification requirements, effective August 16, 2013, and that the revised certification requirements are in effect for company/government officials as well as their representatives. All segments of any AD or CVD proceedings initiated on or after August 16, 2013, including this investigation, should use the formats for the revised certifications provided at the end of the Certifications Final Rule.⁴⁴ The Department intends to reject factual submissions if the submitting party does not comply with the applicable revised certification requirements.

⁴³ See section 782(b) of the Act.

⁴⁴ See Certification of Factual Information To Import Administration During Antidumping and Countervailing Duty Proceedings, 78 FR 42678 (July 17, 2013) (Certifications Final Rule); see also the frequently asked questions regarding the Certifications Final Rule, available at the following: http://enforcement.trade.gov/tlei/notices/factual_info_final_rule_FAQ_07172013.pdf.

Notification to Interested Parties

Interested parties must submit applications for disclosure under administrative protective order in accordance with 19 CFR 351.305(b). Instructions for filing such applications may be found on the Department's Web site at http://enforcement.trade.gov/apo/index.html.

This notice is issued and published pursuant to section 777(i) of the Act and 19 CFR 351.203(c).

Dated: September 15, 2014.
Paul Piquado,
Assistant Secretary for Enforcement and Compliance.

Appendix

Scope of the Investigation

The scope of this investigation covers boltless steel shelving units prepackaged for sale, with or without decks (“boltless steel shelving”). The term “prepackaged for sale” means that, at a minimum, the steel vertical supports (i.e., uprights and posts) and steel horizontal supports (i.e., beams, braces) necessary to assemble a completed shelving unit (with or without decks) are packaged together for ultimate purchase by the end-user. The scope also includes add-on kits. Add-on kits include, but are not limited to, kits that allow the end-user to add an extension shelving unit onto an existing boltless steel shelving unit such that the extension and the original unit will share common frame elements (e.g., two posts). The term “boltless” refers to steel shelving in which the vertical and horizontal supports forming the frame are assembled primarily without the use of nuts and bolts or screws. The vertical and horizontal support members for boltless steel shelving are assembled by methods such as, but not limited to, fitting a rivet, punched or cut tab or other similar connector on one support into a hole, slot or similar receptacle on another support. The supports lock together to form the frame for the shelving unit, and provide the structural integrity of the shelving unit separate from the inclusion of any decking. The incidental use of nuts and bolts or screws to add accessories, wall anchors, tie-bars or shelf supports does not remove the product from scope. Boltless steel shelving units may also come packaged as partially assembled, such as when two upright supports are welded together with front-to-back supports, or are otherwise connected, to form an end unit for the frame. The boltless steel shelving covered by this investigation may be commonly described as rivet shelving, welded frame shelving, slot and tab shelving, and punched rivet (quasi-rivet) shelving as well as by other trade names. The term “deck” refers to the shelf that sits on or fits into the horizontal supports (beams or braces) to provide the horizontal storage surface of the shelving unit.

The scope includes all boltless steel shelving meeting the description above, regardless of (1) vertical support or post type (including but not limited to open post, closed post and tubing); (2) horizontal support or beam/brace profile (including but not limited to Z-beam, C-beam, L-beam, step beam and cargo rack); (3) number of supports; (4) surface coating (including but not limited to paint, epoxy, powder coating, zinc and other metallic coating); (5) number of levels; (6) weight capacity; (7) shape (including but not limited to rectangular, square, and corner units); (8) decking material (including but not limited to wire decking, particle board, laminated board or no deck at all); or (9) the boltless method by which vertical and horizontal supports connect (including but not limited to keyhole and rivet, slot and tab, welded frame, punched rivet and clip).

Specifically excluded from the scope are:

• Wall-mounted shelving, defined as shelving that is hung on the wall and does not stand on, or transfer load to, the floor; ⁴⁵

⁴⁵ The addition of a wall bracket or other device to attach otherwise freestanding subject merchandise to a wall does not meet the terms of this exclusion.

• wire shelving units, which consist of shelves made from wire that incorporates both a wire deck and wire horizontal supports (taking the place of the horizontal beams and braces) into a single piece with tubular collars that slide over the posts and onto plastic sleeves snapped on the posts to create the finished shelving unit;

• bulk-packed parts or components of boltless steel shelving units; and

• made-to-order shelving systems.

Subject boltless steel shelving enters the United States through Harmonized Tariff Schedule of the United States (“HTSUS”) statistical subheadings 9403.20.0018 and 9403.20.0020, but may also enter through HTSUS 9403.10.0040. While HTSUS subheadings are provided for convenience and Customs purposes, the written description of the scope of this investigation is dispositive.

[FR Doc. 2014-22491 Filed 9-19-14; 8:45 am]

BILLING CODE 3510-DS-P